DEPARTMENT OF THE INTERIOR

Fish and Wildlife Service

Sport Fishing and Boating Partnership Council

AGENCY: Fish and Wildlife Service, Interior.

ACTION: Notice of meeting.

SUMMARY: We, the Fish and Wildlife Service, announce a public meeting of the Sport Fishing and Boating Partnership Council (Council).

DATES: We will hold the meeting on Monday, March 5, 2007, from 1 p.m. to 5:30 p.m. (Eastern Time) and on Tuesday, March 6, 2007, from 8:30 a.m. to 1 p.m. Members of the public wishing to participate in the meeting must notify Douglas Hobbs by close of business on Friday, February 23, 2007, per instructions in the SUPPLEMENTARY INFORMATION section of this notice. Submit written statements for this meeting no later than February 23, 2007.

ADDRESSES: The meeting will be held at the Department of the Interior, Room 5160, 1849 C Street, NW., Washington, DC 20240; telephone (703) 358-2336.

FOR FURTHER INFORMATION CONTACT: Douglas Hobbs, Council Coordinator, 4401 North Fairfax Drive, Mailstop 3103-AEA, Arlington, Virginia 22203, (703) 358-2336 (phone), (703) 358-2548 (fax), or doug_hobbs@fws.gov (e-mail).

SUPPLEMENTARY INFORMATION: In accordance with the requirements of the Federal Advisory Committee Act, 5 U.S.C. App., we give notice that the Sport Fishing and Boating Partnership Council will hold the meeting on March 5, 2007, from 1 p.m. to 5:30 p.m. (Eastern Time) and on March 6, 2007, from 8:30 a.m. to 1 p.m.

Background

The Council was formed in January 1993 by the Secretary of the Interior (Secretary) to advise the Secretary, through the Director, U.S. Fish and Wildlife Service, about nationally significant recreational boating, fishing and aquatic resource conservation issues. The Council represents the interests of the public and private sectors of the sport fishing and boating, and conservation communities and is organized to enhance partnerships among industry, constituency groups, and government. The 18-member Council, appointed by the Secretary, includes the Director of the Service and the president of the Association of Fish and Wildlife Agencies, who both serve in ex officio capacities. Other Council members are Directors from State agencies responsible for managing recreational fish and wildlife resources and individuals who represent the interests of saltwater and freshwater recreational fishing, recreational boating, the recreational fishing and boating industries, recreational fisheries resource conservation, aquatic resource outreach and education, and tourism. Background information on the Council is available at http://www.fws.gov/sfbpc.

The Council will convene to discuss: (1) The Council's continuing role in providing input to the Fish and Wildlife Service on the Service's strategic plan for its Fisheries Program; (2) The Council's work in addressing the issue of boating and fishing access; (3) The Council's role as a facilitator of discussions with Federal and State agencies and other sport fishing and boating interests concerning a variety of national boating and fisheries management issues; (4) The Council's work to assess the Clean Vessel Act Grant Program; (5) A possible Council role in communicating with partners and stakeholders about the Sport Fish Restoration and Boating Trust Fund; (6) A briefing on boating and fishing related issues that may arise in the 110th Congress; and (7) The Council's role in providing the Secretary with information about the implementation of the Strategic Plan for the National Outreach and Communications Program, authorized by the 1998 Sportfishing and Boating Safety Act, that is now being implemented by the Recreational Boating and Fishing Foundation, a private, nonprofit organization. The final agenda will be posted on the Internet at http://www.fws.gov/sfbpc.

Procedures for Public Input

We are reserving time on March 6, 2007, for oral public comments, and will assign speaking times on a first-come, first-served basis. Questions from the public will not be considered during this comment period, which is intended to allow interested members of the public to submit relevant written or oral information for the Council to consider in the course of its business. We are limiting each individual or group's oral presentation during the oral public comment period to 3 minutes per speaker, with no more than a total of one-half hour for all speakers. Speakers wishing to submit a full statement should do so at the meeting. Those speakers unable to be placed on the agenda, or if you are unable to attend in person, we invite you to also submit written statements.

To be placed on our public speaker list for this meeting, contact Douglas Hobbs, Council Coordinator, in writing (preferably via e-mail), by Friday, February 23, 2007, at the contact information under FOR FURTHER INFORMATION CONTACT. We must receive all written statements by February 23, 2007, so that the information may be made available to the Council for their consideration prior to this teleconference. Submit your written statements to the Council Coordinator in the following formats: One hard copy with original signature, and one electronic copy via e-mail (acceptable file format: Adobe Acrobat PDF, WordPerfect, MS Word, MS PowerPoint, or Rich Text files in IBM-PC/Windows 98/2000/XP format).

Because entry to Federal buildings is restricted, all visitors are required to pre-register to be admitted. Anyone wishing to attend this meeting must register by close of business February 23, 2007, in order to attend. Please submit your name, time of arrival, e-mail address and phone number to Douglas Hobbs, and he will provide you with instructions for admittance. Mr. Hobbs' e-mail address is doug_hobbs@fws.gov, and his phone number is (703) 358-2336.

Summary minutes of the conference will be maintained by the Council Coordinator at 4401 N. Fairfax Drive, MS-3101-AEA, Arlington, VA 22203, and will be available for public inspection during regular business hours. You may purchase personal copies for the cost of duplication.

Dated: February 5, 2007.
H. Dale Hall,
Director.

[FR Doc. E7-2692 Filed 2-14-07; 8:45 am]

BILLING CODE 4310-55-P